GENERAL ACCOUNTING OFFICE

Commercial Activities Panel

AGENCY: General Accounting Office.

ACTION: Notice.

SUMMARY: Section 832 of the National Defense Authorization Act for Fiscal Year 2001 requires the Comptroller General of the United States to convene a panel of experts to study the transfer of commercial activities currently performed by government employees to federal contractors, a procedure commonly known as “contracting out” or “outsourcing.” Selection of panel members has been completed and this notice announces the composition of the panel. The authorization act requires the Comptroller General to submit the panel's report to Congress by May 1, 2002.

FOR FURTHER INFORMATION CONTACT: William T. Woods, Project Director, (202) 512-8214; E-mail: woodsw@gao.gov.

SUPPLEMENTARY INFORMATION: Section 832 of the Floyd D. Spence National Defense Authorization Act for Fiscal Year 2001, Public Law 106-398, Oct. 30, 2000, directs the Comptroller General of the United States to convene a panel of experts to study the policies and procedures governing the transfer of commercial activities for the federal government from government personnel to a federal contractor. The panel's study is to include a review of: (1) Procedures for determining whether functions should continue to be performed by government personnel; (2) procedures for comparing the costs of performing functions by government personnel with the costs of performing those functions by federal contractors; (3) implementation by the Department of Defense of the Federal Activities Inventory Reform Act of 1998 (Pub. L. 105-270, 112 Stat. 2382, 31 U.S.C. 501 note); and (4) procedures of the Department of Defense for public-private competitions under Office of Management and Budget Circular A-76. By May 1, 2002, the Comptroller General must submit to Congress a report of the panel on the results of the study, including recommended changes with regard to implementing policies and enactment of legislation.

The Act requires the Comptroller General or a person within GAO designated by him to serve as the panel's chairman. The Comptroller General must appoint highly qualified and knowledgeable persons to serve on the panel and must ensure that the following entities receive fair representation on the panel: (1) The Department of Defense, (2) persons in private industry, (3) federal labor organizations, and (4) the Office of Management and Budget.

During the initial stages of forming a panel to conduct this study, the General Accounting Office issued a Federal Register notice on December 1, 2000, 65 FR 75288, inviting the public to submit suggestions on the composition of the panel. In this notice, GAO invited interested parties to submit suggestions on who should serve on the panel, specific agencies and organizations that should be represented, and the qualifications of panel members. In response to the notice, the GAO received a variety of comments on the composition of the panel, as well as numerous nominations of individuals to serve on the panel. Specifically, the GAO received nominations of 44 individuals, including representatives from the private sector, federal labor organizations, industry groups, research organizations, interest groups, and contractors. The Comptroller General considered all of the comments and nominations and has appointed the following individuals to serve on the Commercial Activities Panel:

• David M. Walker, Chairman, Comptroller General of the United States

• Dr. Frank A. Camm, Senior Economist, RAND

• Mark Filteau, President, Johnson Controls World Services

• Stephen Goldsmith, former Mayor of Indianapolis, Indiana

• Bobby L. Harnage Sr., National President, American Federation of Government Employees

• Colleen M. Kelley, National President, National Treasury Employees Union

• Sean O'Keefe, Deputy Director, Office of Management and Budget

• Senator David Pryor (retired), Director, Institute of Politics, Harvard University

• Stan Z. Soloway, President, Professional Services Council

• Robert M. Tobias, Distinguished Adjunct Professor, and Director of the Institute for the Study of Public Policy Implementation, American University

• Director, Office of Personnel Management

• Department of Defense representative (to be designated at a later date)

During the course of its work, the panel will hold several public hearings. Interested parties are encouraged to attend these hearings to provide their perspective on outsourcing issues. The schedules for these hearings will be announced in a later Federal Register notice. In addition, the GAO issued a notice on March 23, 2001, 66 FR 16245, seeking submission of comments identifying significant sourcing issues, as well as references to or copies of written materials related to these issues. Although it would be most useful to receive responses by May 7, 2001, comments received at any time will be considered.

Dated: April 12, 2001.
David M. Walker,
Comptroller General of the United States.

[FR Doc. 01-9509 Filed 4-16-01; 8:45 am]

BILLING CODE 1610-02-P